DEPARTMENT OF TRANSPORTATION

Surface Transportation Board

[Docket No. AB 585 (Sub-No. 5X)]

Dallas, Garland & Northeastern Railroad Company—Discontinuance of Trackage Rights Exemption—in Dallas County, TX

Dallas, Garland & Northeastern Railroad Company (DGNO) has filed a verified notice of exemption under 49 CFR. pt. 1152 subpart F-Exempt Abandonments and Discontinuances of Service to discontinue trackage rights over an approximately 6.04-mile line of railroad known as the Elam Branch between approximately milepost 308.80, near Elam, and approximately milepost 314.84, near Briggs, in Dallas County, Tex. (the Line).¹ The Line traverses United States Postal Service Zip Codes 75210, 75227, and 75217.

¹ The Line is owned by Dallas Area Rapid Transit (DART). DGNO acquired by assignment from Union Pacific Railroad Company exclusive trackage rights over the Line. See Dallas, Garland & Northeastern Railroad, Inc.—Trackage Rights Exemption—Dallas Area Rapid Transit, FD 34248 (STB served Sept. 12, 2002). In 2003, Regional Rail Right of Way Company (RRROW), a Class III rail carrier and Texas corporation created by DART, acquired an exclusive, perpetual freight rail operating easement and all attendant freight rail common carrier obligations over the Line. See Regional Rail Right of Way Co.—Acquisition & Operation Exemption—Lines of Dallas Area Rapid Transit, FD 34347 (STB served June 3, 2003). DGNO continued to serve the Line under its trackage rights agreement with DART and UP. Upon discontinuance of service by DGNO over the Line, RRROW will continue to be a common carrier authorized to operate on the Line.

DGNO has certified that: (1) No local traffic has moved over the Line for at least 2 years; (2) any overhead traffic on the Line can be rerouted over other lines; (3) no formal complaint filed by a user of rail service on the Line (or by a state or local government entity acting on behalf of such user) regarding cessation of service over the Line either is pending with the Surface Transportation Board (Board) or with any U.S. District Court or has been decided in favor of complainant within the 2-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on May 29, 2012, unless stayed pending reconsideration. Petitions to stay that do not involve environmental issues and formal expressions of intent to file an OFA to subsidize continued rail service under 49 CFR 1152.27(c)(2) ² must be filed by May 7, 2012.³ Petitions to reopen must be filed by May 17, 2012, with the Surface Transportation Board, 395 E Street SW., Washington, DC 20423-0001.

² Because this is a discontinuance and not an abandonment, only OFAs to subsidize continued rail service are permitted. Each OFA must be accompanied by the filing fee, which currently is set at $1,500. See 49 CFR 1002.2(f)(25).

³ Because this is a discontinuance proceeding and not an abandonment, trail use/rail banking and public use conditions are not appropriate. Likewise, no environmental or historic documentation is required here under 49 CFR 1105.6(c) and 49 CFR 1105.8(b), respectively.

A copy of any petition filed with the Board should be sent to DGNO's representative: Melanie B. Yasbin, Law Offices of Louis E. Gitomer, 600 Baltimore Avenue, Suite 301, Towson, MD 21204.

If the verified notice contains false or misleading information, the exemption is void ab initio.

Board decisions and notices are available on our Web site at “www.stb.dot.gov.”

Decided: April 23, 2012.
By the Board, Rachel D. Campbell, Director, Office of Proceedings.
Raina S. White,
Clearance Cerk.

[FR Doc. 2012-10149 Filed 4-26-12; 8:45 am]

BILLING CODE 4915-01-P